FEDERAL TRADE COMMISSION

Granting of Request for Early Termination of the Waiting Period Under The Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
TRANSACTIONS GRANTED EARLY TERMINATION—03/19/2009
20090312 | General Electric Company | Teleflex Incorporated | Airfoil Technologies International Singapore Pte. Ltd.
20090314 | Mr. Alexander Otto | Developers Diversified Realty Corporation | Developers Diversified Realty Corporation.
TRANSACTIONS GRANTED EARLY TERMINATION—03/20/2009
20090332 | Triumph Group, Inc | TMC Aerospace, Inc | Airframe Spares and Logistics, Inc.
|  |  | Mexmil China, Inc.
|  |  | Mexmil Global Services, Inc.
|  |  | The Mexmill Company.
20090334 | Gores Capital Partners II, L.P | Westwood One, Inc | Westwood One, Inc.
20090341 | Auto Club Insurance Association | GMAC LLC | MEEMIC Insurance Company.
|  |  | MEEMIC Insurance Services Corporation.
20090342 | Broadpoint Securities Group, Inc | Eric J. Gleacher | Gleacher Holdings LLC.
|  |  | Gleacher Partners Inc.
20090344 | Petrohawk Energy Corporation | George B. Kaiser | Kaiser Trading, LLC.
20090345 | Oglethorpe Power Corporation | Dynegy Inc | Heard County Power L.L.C.
TRANSACTIONS GRANTED EARLY TERMINATION—03/23/2009
20090323 | Saw Mill Capital Partners, L.P | Filtrona plc | Filtrona Extrusion Massachusetts, LLC.
|  |  | Filtrona Extrusion USA, Inc.
20090337 | First Solar, Inc | OptiSolar Holdings LLC | OptiSolar Holdings LLC.
20090346 | 3i Group plc | BFI Co., LLC | Phibro Animal Health Corporation.
20090347 | Dr. Phillip Frost | OPKO Health, Inc | OPKO Health, Inc.
TRANSACTIONS GRANTED EARLY TERMINATION—03/27/2009
20090343 | International Petroleum Investment Company | NOVA Chemicals Corporation | NOVA Chemicals Corporation.
TRANSACTIONS GRANTED EARLY TERMINATION—03/30/2009
20090328 | NRG Energy, Inc | Reliant Energy, Inc | RERH Holdings, LLC.
20090356 | Platinum Equity Capital Partners II, L.P. | The David C. Copley Trust | The Copley Press, Inc.
TRANSACTIONS GRANTED EARLY TERMINATION—03/31/2009
20090355 | Gilead Sciences, Inc | CV Therapeutics, Inc | CV Therapeutics, Inc.
TRANSACTIONS GRANTED EARLY TERMINATION—04/02/2009
20090200 | BASF SE | Ciba Holding Inc | Ciba Holding Inc.
TRANSACTIONS GRANTED EARLY TERMINATION—04/03/2009
20090357 | Valero Energy Corporation | VeraSun Energy Corporation | VeraSun Energy Corporation.
20090358 | Deutsche Lufthansa AG | Austrian Airlines AG | Austrian Airlines AG.
TRANSACTIONS GRANTED EARLY TERMINATION—04/07/2009
20090349 | Computershare Limited | Eric S. Kurtzman | Eric S. Kurtzman Inc.
|  |  | Jonathan A. Carson, Inc.
|  |  | KCC Express LLC.
|  |  | KCC Global Securities LLC.
|  |  | Kurtzman Carson Consultants LLC.
|  |  | Schedule G Ventures LLC.
20090350 | Computershare Limited | Jonathan A. Carson | Eric S. Kurtzman Inc.
|  |  | Jonathan A. Carson, Inc.
|  |  | KCC Express LLC.
|  |  | KCC Global Securities LLC.
|  |  | Kurtzman Carson Consultants LLC.
|  |  | Schedule G Ventures LLC.
TRANSACTIONS GRANTED EARLY TERMINATION—04/14/2009
20090361 | Taiyo Nippon Sanso Corporation | Caxton Global Investments Limited | Caxton-Iseman (Holdings) Propane I Corp.
|  |  | Caxton-Iseman (Holdings) Propane II Corp.
|  |  | Caxton-Iseman (Propane) II, L.P.
|  |  | VNG Holdings II LLC.
|  |  | VNG Holdings Inc.
20090364 | Cisco Systems Inc | Pure Digital Technologies, Inc | Pure Digital Technologies, Inc.
20090366 | IPC Holdings, Ltd | Max Capital Group Ltd | Max Capital Group Ltd.
20090373 | Petro-Canada | Suncor Energy Inc | Suncor Energy Inc.
20090374 | Suncor Energy Inc | Petro-Canada | Petro-Canada.
TRANSACTIONS GRANTED EARLY TERMINATION—04/15/2009
20090375 | Sherman WSC Acquisition Corp | ED&F Man Holdings Limited | ED&F Man Korea Limited.
|  |  | ED&F Man Liquid Products Inc.
|  |  | Westway (Australia) Pty. Ltd.
|  |  | Westway Feed Products, Inc.
|  |  | Westway Terminal Company Inc.
|  |  | Westway Terminal Poland Sp. Zoo.
|  |  | Westway Terminals Hibernian Limited.
|  |  | Westway Terminals Nederland B.V.
|  |  | Westway Terminals UK Limited.
TRANSACTIONS GRANTED EARLY TERMINATION—04/17/2009
20090379 | New Gold Inc | Western Goldfields Inc | Western Goldfields Inc.
20090383 | Victory Acquisition Corp | VantagePoint CDP Partners, L.P | TouchTunes Corporation.
20090385 | Spectrum Equity Investors V, L.P | Ryan Finley | SM Holdco LLC.

FOR FURTHER INFORMATION CONTACT: Sandra M. Peay, Contact Representative, or Renee Hallman, Contact Representative, Federal Trade Commission, Premerger Notification Office, Bureau of Competition, Room H-303, Washington, DC 20580, (202) 326-3100.

By Direction of the Commission.
Donald S. Clark,
Secretary.

[FR Doc. E9-9871 Filed 4-29-09; 8:45 am]

BILLING CODE 6750-01-P